DEPARTMENT OF HOUSING AND URBAN DEVELOPMENT

[Docket No. FR-5194-N-03]

Notice of Submission of Proposed Information Collection: Section 5(h) Homeownership Program for Public Housing: Submission of Plan and Reporting

AGENCY: Office of Public and Indian Housing, HUD.

ACTION: Notice.

SUMMARY: The proposed information collection requirement described below will be submitted to the Office of Management and Budget (OMB) for review, as required by the Paperwork Reduction Act. The Department is soliciting public comments on the subject proposal.

DATES: Comments Due Date: April 8, 2008.

ADDRESSES: Interested persons are invited to submit comments regarding this proposal. Comments should refer to the proposal by name and/or OMB approval Number (2577-0201) and should be sent to: Lillian Deitzer, Departmental Reports Management Officer, QDAM, Department of Housing and Urban Development, 451 Seventh Street, SW., Washington, DC 20410; e-mail Lillian Deitzer at Lillian_L_Deitzer@HUD.gov or telephone (202) 708-2374. This is not a toll-free number. Copies of available documents may be obtained from Ms. Deitzer

FOR FURTHER INFORMATION CONTACT: Mary Schulhof, Office of Policy, Progams and Legislative Initiatives (PIH, Department of Housing and Urban Development, 451 Seventh Street, SW., Washington, DC 20410; telephone 202-708-0713, (this is not a toll-free number).

SUPPLEMENTARY INFORMATION: The Department will submit the proposed information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology, e.g., permitting electronic submission of responses.

This Notice also lists the following information:

Title of Proposal: Section 5(h) Homeownership: Data Collection.

OMB Control Number: 2577-0201.

Description of the need for the information and proposed use: 24 CFR Part 906—Section 5(h) Homeownership Program is authorized by Sections 5(h) and 6(c)(4)(D) of the U.S. Housing Act of 1937 (Act). This program was replaced by Section 32 of the Act through enactment of the Quality Housing and Work Responsibility Act of 1998. The data collection is only for gathering information for the ongoing implementation of programs approved under the former 5(h) authority. Public Housing Agencies (PHAs) are required to submit to HUD the dates on which each public housing unit number/address approved under Section 5(h) is sold. The information is currently collected electronically in the Public and Indian Housing Information Center (PIC). The sections in the regulation that impose information collection requirements are as follows: 24 CFR 906.17, which requires PHAs to maintain records (including sales and financial records) for all activities incident to implementation of the HUD-approved homeownership plan. Applicable portions of the regulations are attached.

For HUD-approved homeownership plans, PHAs will maintain records which may be subject to audit by HUD and the Government Accounting Office (GAO).

Agency form number: None.

Members of affected public: Public Housing Agencies currently implementing an approved Section 5(h) Homeownership Plan.

Estimation of the total number of hours needed to prepare the information collection including number of respondents:

Estimated annual burden | Reference | Number of respondents | Frequency of response | Estimated average response time | Total annual burden
219 | 24 CFR 906.17 | 73 | 10 | .3 | 219

Status of the proposed information collection: Extension of currently approved collection.

The information is currently collected electronically in the Public and Indian Housing Information Center (PIC). Statutory mandates and Federal program requirements would not be met if the collection is not conducted, or is conducted less frequently.

Authority: Section 3506 of the Paperwork Reduction Act of 1995, 44 U.S.C. Chapter 35, as amended.

Dated: February 1, 2008.
Bessy Kong,
Deputy Assistant Secretary for Policy, Program, and Legislative Initiatives.

[FR Doc. E8-2388 Filed 2-7-08; 8:45 am]

BILLING CODE 4210-67-P